DEPARTMENT OF TRANSPORTATION

Federal Motor Carrier Safety Administration

[Docket No. FMCSA-2026-0265]

Qualification of Drivers; Commercial Vehicle Safety Alliance; Application for Exemption

AGENCY: Federal Motor Carrier Safety Administration (FMCSA), Department of Transportation (DOT).

ACTION: Notice of application for exemption; request for comments.

SUMMARY: FMCSA requests public comment on the Commercial Vehicle Safety Alliance's (CVSA) request for guidance, which FMCSA is treating as an application for exemption, to allow motor carriers and drivers to rely on a paper copy of the medical examiner's certificate (MEC) as proof of the driver's medical certification until the Medical Examiner's Certification Integration (NRII) final rule is fully implemented in all 50 States and the District of Columbia.

DATES: Comments must be received on or before March 9, 2026.

ADDRESSES: You may submit comments identified by Docket Number FMCSA-2026-0265 by any of the following methods:

• Federal eRulemaking Portal: www.regulations.gov. See the Public Participation and Request for Comments section below for further information.

• Mail: Dockets Operations, U.S. Department of Transportation, 1200 New Jersey Avenue SE, West Building, Ground Floor, Washington, DC 20590-0001.

• Hand Delivery or Courier: 1200 New Jersey Avenue SE, West Building, Ground Floor, Washington, DC 20590-0001, between 9 a.m. and 5 p.m., Monday through Friday, except Federal holidays.

• Fax: (202) 493-2251.

Each submission must include the Agency name and the docket number (FMCSA-2026-0265) for this notice. Note that DOT posts all comments received without change to www.regulations.gov, including any personal information included in a comment. Please see the Privacy Act heading below.

Privacy Act: In accordance with 49 U.S.C. 31315(b), DOT solicits comments from the public to better inform its exemption process. DOT posts these comments, including any personal information the commenter provides, to www.regulations.gov, as described in the system of records notice DOT/ALL-14 FDMS (Federal Docket Management System (FDMS)), which can be reviewed at https://www.transportation.gov/individuals/privacy/privacy-act-system-records-notices. The comments are posted without edit and are searchable by the name of the submitter.

FOR FURTHER INFORMATION CONTACT: Ms. Evangela Hollowell; Office of Carrier, Driver and Vehicle Safety Standards, FMCSA; fmcsamedical@dot.gov. If you have questions on viewing or submitting material to the docket, contact Dockets Operations at (202) 366-9826.

SUPPLEMENTARY INFORMATION:

I. Public Participation and Request for Comments

FMCSA encourages you to participate by submitting comments and related materials.

A. Submitting Comments

If you submit a comment, please include the docket number for this notice (FMCSA-2026-0265), indicate the specific section of this document to which the comment applies, and provide a reason for your suggestions or recommendations. You may submit your comments and material online or by fax, mail, or hand delivery, but please use only one of these means. FMCSA recommends that you include your name and a mailing address, an email address, or a phone number in the body of your document so the Agency can contact you if it has questions regarding your submission.

To submit your comment online, go to https://www.regulations.gov/docket/FMCSA-2026-0265/document, click on this notice, click “Comment,” and type your comment into the text box on the following screen.

If you submit your comments by mail or hand delivery, submit them in an unbound format, no larger than 8½ by 11 inches, suitable for copying and electronic filing.

FMCSA will consider all comments and material received during the comment period. Comments received after the comment closing date will be filed in the public docket and will be considered to the extent practicable.

B. Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

C. Viewing Comments and Documents

To view comments, as well as any documents mentioned in this preamble as being available in the docket, go to https://www.regulations.gov, insert FMCSA-2026-0265 in the keyword box, select the document tab and choose the document to review. To view comments, click this notice, then click “Browse Comments.” If you do not have access to the internet, you may view the docket by visiting Dockets Operations on the ground floor of the DOT West Building, 1200 New Jersey Avenue SE, Washington, DC 20590-0001, between 9 a.m. and 5 p.m. ET Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations. FMCSA must publish a notice of each exemption request in the Federal Register (49 CFR 381.315(a)). The Agency must provide the public an opportunity to inspect the information relevant to the application, including the applicant's safety analysis. The Agency must provide an opportunity for public comment on the request.

The Agency reviews the application, safety analyses, and public comments submitted and determines whether granting the exemption would likely achieve a level of safety equivalent to, or greater than, the level that would be achieved absent such exemption, pursuant to the standard set forth in 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Applicant's Request

Current Regulatory Requirements

FMCSA published the NRII final rule in 2015 (80 FR 22790, Apr. 23, 2015). The Agency extended the original compliance date several times, most recently on June 22, 2021 (86 FR 32643), with compliance ultimately being required as of June 23, 2025. The NRII rule modernizes how driver medical certification is shared, replacing the outdated paper-based process with a secure, electronic transmission system. The NRII rule mandates that certified medical examiners use specific forms to document physical qualification examinations and issue medical certificates to qualified commercial motor vehicle drivers. Among other changes that were implemented on June 23, 2025, medical examiners are no longer required to issue the original/paper MEC, Form MCSA-5876, to commercial learner's permit (CLP) applicants and commercial driver's license (CDL) holders. CLP applicants and CDL holders are no longer required to submit a paper MEC to their State Driver's Licensing Agency (SDLA) (49 CFR 391.43(g)(2)(ii)). Instead, FMCSA electronically transmits examination results and medical variance information for CLP applicants and CDL holders from the National Registry to the SDLAs. SDLAs post the driver's information on the Commercial Driver's License Information System (CDLIS) driver motor vehicle record (49 CFR 383.71(h)(1)(ii) and (h)(3)(ii); 49 CFR 383.73(a)(7)(ii) and (b)(5)(ii)).

In addition, the provisions allowing motor carriers and drivers to rely on paper copies of the MEC for up to 15 days after the certificate was issued expired as of June 22, 2025. 49 CFR 391.23(m)(2)(iii) and (m)(3)(i)(C); 49 CFR 391.41(a)(2)(i)(A) and (a)(2)(ii); 49 CFR 391.51(b)(6)(ii).

On July 14, 2025, FMCSA granted a waiver to interstate CDL and CLP holders and to motor carriers to allow them to continue to rely on a paper copy of the MEC as proof of the driver's medical certification for up to 15 days after the date the MEC was issued. On August 21, 2025, FMCSA modified the waiver to allow CDL holders, CLP holders, and motor carriers to rely on the paper copy of the MEC as proof of the driver's medical certification for up to 60 days after the date the MEC was issued. FMCSA subsequently re-issued the waiver effective October 13, 2025, and January 11, 2026.

As of the date of this notice, 42 States and the District of Columbia have implemented NRII. Eight States have not yet implemented NRII and are continuing to rely on the paper MEC.

Applicant's Request

CVSA requests that FMCSA provide guidance to commercial motor vehicle enforcement officials that drivers are permitted to carry paper copies of their valid MEC with them to demonstrate compliance with the applicable requirements. CVSA notes that motor carriers have faced challenges in uneven NRII implementation from State to State. CVSA notes that these challenges have resulted in additional costs and administrative burdens to motor carriers.

Although CVSA's request is labeled as a request for guidance, FMCSA has determined that it is unable to issue the guidance CVSA is seeking because it would conflict with the regulations currently in effect, which are binding on regulated entities. Therefore, FMCSA is treating CVSA's request for guidance as an application for exemption from the applicable regulations to allow motor carriers and drivers to continue to rely on a paper copy of the driver's MEC as proof of the driver's medical certification for 60 days from the date the certificate was issued. If granted, this exemption would allow motor carriers and drivers the same flexibility as the current waiver while waiting for all States to complete NRII implementation. This exemption would exempt motor carriers and drivers from the end date of June 22, 2025, and the 15-day time period in 49 CFR 391.23(m)(2)(iii) and (m)(3)(i)(C), 49 CFR 391.41(a)(2)(i)(A) and (a)(2)(ii), and 49 CFR 391.51(b)(6)(ii) and would be valid for one year.

Equivalent Level of Safety

When FMCSA issued the waivers to allow drivers and motor carriers to continue to rely on a paper copy of the MEC as proof of the driver's medical certification for up to 60 days after the date the MEC was issued, FMCSA determined that the waivers were likely to achieve a level of safety that is equivalent to the level of safety that would be obtained absent the waiver because the waivers did not alter the requirement that a person may not operate a commercial motor vehicle unless he or she is certified by a medical examiner as physically qualified to do so and did not alter any physical qualification requirements for drivers.

A copy of CVSA's request is available for review in the docket for this notice.

IV. Request for Comments

In accordance with 49 U.S.C. 31315(b), FMCSA requests public comment from all interested persons on CVSA's application for an exemption. In addition, FMCSA requests public comment on the appropriate timeframe for motor carriers and drivers to rely on a paper copy of the MEC, noting that the waiver allows a 60-day grace period. All comments received before the close of business on the comment closing date will be considered and will be available for examination in the docket at the location listed under the ADDRESSES section of this notice. Comments received after the comment closing date will be filed in the public docket and will be considered to the extent practicable. In addition to late comments, FMCSA will also continue to file, in the public docket, relevant information that becomes available after the comment closing date. Interested persons should continue to examine the public docket for new material.

Larry W. Minor,
Associate Administrator of Policy.

[FR Doc. 2026-02369 Filed 2-5-26; 8:45 am]

BILLING CODE 4910-EX-P